DEPARTMENT OF COMMERCE

International Trade Administration

[A-549-813]

Final Court Decision and Amended Final Results of Antidumping Duty Administrative Review: Canned Pineapple Fruit From Thailand

AGENCY: Import Administration, International Trade Administration, Department of Commerce.

ACTION: Notice of Final Court Decision and Amended Final Results of Antidumping Duty Administrative Review: Canned Pineapple Fruit from Thailand.

SUMMARY: On September 15, 2003, the United States Court of International Trade (CIT) affirmed the Department of Commerce's redetermination on remand of the final results of the fifth administrative review of the antidumping duty order on canned pineapple fruit from Thailand. See Maui Pineapple Company, Ltd. v. United States, Slip Op. 03-120 (September 15, 2003), Court No. 01-01017 (Maui Pineapple). Consistent with the decision of the United States Court of Appeals for the Federal Circuit (Federal Circuit) in Timken Co. v. United States, 893 F.2d 337 (Fed. Cir. 1990) (Timken), on October 1, 2003, the Department of Commerce (the Department) notified the public that Maui Pineapple and the CIT's earlier opinion in this case were “not in harmony” with the Department's original results. See Notice of Decision of the Court of International Trade: Canned Pineapple Fruit from Thailand, 68 FR 56619 (October 1, 2003) (Notice of Decision). No party has appealed the CIT's decision within the 60-day time period provided and the Department is now issuing these amended final results reflecting the CIT's decision.

EFFECTIVE DATE: December 22, 2003.

FOR FURTHER INFORMATION CONTACT: David Layton or Charles Riggle, Office 5, Group II, AD/CVD Enforcement, Import Administration, International Trade Administration, U.S. Department of Commerce, 14th Street and Constitution Avenue, NW, Washington, DC 20230; telephone: (202) 482-0371 and (202) 482-0650, respectively.

SUPPLEMENTARY INFORMATION:

Background

On October 17, 2001, the Department published a notice of the final results of the fifth administrative review of canned pineapple fruit from Thailand. See Notice of Final Results of Antidumping Duty Administrative Review and Rescission of Administrative Review in Part: Canned Pineapple Fruit From Thailand, 66 FR 52744 (October 17, 2001) (Final Results). Maui Pineapple Company, Ltd. filed a lawsuit challenging these results and the CIT issued an Order and Opinion dated April 16, 2003 remanding two issues to the Department. See Maui Pineapple Company, Ltd. v. United States, 264 F.Supp.2d 1244 (CIT 2003) (September 15, 2003). Pursuant to the CIT's April 16, 2003 Order and Opinion, the Department filed its remand results on June 16, 2003. On September 15, 2003, the CIT affirmed the Department's final results of redetermination in Maui Pineapple. On October 1, 2003, the Department published the Notice of CIT Decision consistent with the Federal Circuit decision in Timken. The time period for appealing the CIT's decision has expired and no party has appealed the CIT's affirmation of the Departments final results of redetermination.

Amendment To Final Determinations

Pursuant to section 516A(e) of the Tariff Act of 1930, as amended, as there is now a final and conclusive court decision, we are now amending the final results of the antidumping duty administrative review to reflect a revised weighted average margin for Dole Food Company, Dole Packaged Foods and Dole Thailand (collectively, Dole). See Final Results. We determine that the following revised weighted-average margin exists for Dole for the period of July 1, 1999 through June 30, 2000 :

Manufacturer/Exporter | Margin (percent)
Dole | 0.98

Accordingly, the Department will determine and the U.S. Customs and Border Protection (CBP) will assess appropriate antidumping duties on the relevant entries of subject merchandise covered by the review period listed above. The Department will issue appraisement instructions directly to the CBP within 15 days of the publication of this notice.

Dated: 15, 2003.
James J. Jochum,
Assistant Secretary for Import Administration.

[FR Doc. E3-00606 Filed 12-19-03; 8:45 am]

BILLING CODE 3510-DS-S